DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, September 25, 2013 1:00 p.m.-7:00 p.m.

ADDRESSES: Sagebrush Inn Conference Center, 1508 Paseo del Pueblo Sur, Taos, New Mexico 87571.

FOR FURTHER INFORMATION CONTACT: Menice Santistevan, Northern New Mexico Citizens' Advisory Board (NNMCAB), 94 Cities of Gold Road, Santa Fe, NM 87506. Phone (505) 995-0393; Fax (505) 989-1752 or Email: Menice.Santistevan@nnsa.doe.gov.

SUPPLEMENTARY INFORMATION: Purpose of the Board: The purpose of the Board is to make recommendations to DOE-EM and site management in the areas of environmental restoration, waste management, and related activities.

Tentative Agenda

1:00 p.m. Call to Order by Deputy Designated Federal Officer (DDFO), Lee Bishop Establishment of a Quorum: Roll Call and Excused Absences, William Alexander Welcome and Introductions, Carlos Valdez, Chair Approval of Agenda and July 31, 2013 Meeting Minutes

1:15 p.m. Public Comment Period

1:30 p.m. Old Business

• Written Reports

• Other Items

1:45 p.m. New Business

• Top Issue/Accomplishment for Fall EM SSAB Chairs' Meeting

• Other items

2:00 p.m. Items from EM SSAB Designated Federal Officer, Cate Alexander

2:30 p.m. Break

2:45 p.m. Presentation on Waste Isolation Pilot Plant (WIPP) Inventory, Joe Franco

3:45 p.m. Update from Liaison Members

• Los Alamos National Laboratory, Jeffrey Mousseau

• New Mexico Environment Department, John Kieling

• DOE, Peter Maggiore

4:30 p.m. Consideration and Action on Draft Recommendation(s)

5:00 p.m. Dinner Break

6:00 p.m. Public Comment Period, Carlos Valdez

6:15 p.m. Consideration and Action on Draft Recommendation(s) (continued)

6:30 p.m. Items from DDFO, Lee Bishop

• Report on NNMCAB Recommendations and DOE Responses

• Other items

6:45 p.m. Wrap-Up and Comments from Board Members, Carlos Valdez

7:00 p.m. Adjourn

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.energy.gov/.

Issued at Washington, DC on August 9, 2013.
LaTanya R. Butler,
Deputy Committee Management Officer.

[FR Doc. 2013-19832 Filed 8-14-13; 8:45 am]

BILLING CODE 6405-01-P